GENERAL SERVICES ADMINISTRATION

[Notice-QMC-2024-01; Docket No. 2024-0002; Sequence No. 24]

GSA Bulletin (ETS 24-01) Transition to E-Gov Travel Service, Next Generation (ETSNext)

AGENCY: Office of Travel, Employee Relocation, and Transportation; General Services Administration, (GSA).

ACTION: Notice.

SUMMARY: The GSA Bulletin ETS 24-01 is issued to bring awareness to all critical agency leadership and program offices so that preparation and action takes place to ensure the ETSNext transition happens on a timely, well-planned basis. The GSA Bulletin ETS 24-01 is cosigned by the Office of Government-wide Policy and the Federal Acquisition Service and is posted on https://www.gsa.gov/policy-regulations/regulations/federal-travel-regulation/ftr-and-related-files#TravelPerDiemBulletins.

DATES: This bulletin is applicable after April 15, 2024.

FOR FURTHER INFORMATION CONTACT: Ryan Edelstein, ETSNext Program Director, GSA, Office of Travel, Employee Relocation and Transportation at 703-835-2830.

SUPPLEMENTARY INFORMATION:

Background

ETSNext is the next generation governmentwide travel & expense solution being acquired by GSA. It is a mandatory program and GSA has responsibility through the Office of Governmentwide Policy, FAS Program Management and Governmentwide Category Management to provide this ETSNext solution.

The Bulletin provides immediate, actionable and practical steps agencies should take now to prepare for the transition to ETSNext. Agency actions include:

• Engaging with GSA to determine budgets and timelines for your agency's transition to ETSNext.

• Preparing for and prioritizing financial management (FM) systems integration with ETSNext.

• Executing a memorandum of understanding (MOU) with GSA that will memorialize both GSA's and agencies' understanding that certain tasks must be completed in accordance with a defined schedule to ensure a successful transition to ETSNext and the utilization of ETSNext for the life of the contract.

Timothy Burke,
Executive Director, GSA Office of Travel, Employee Relocation and Transportation.

[FR Doc. 2024-11170 Filed 5-21-24; 8:45 am]

BILLING CODE 6820-V1-P